DEPARTMENT OF AGRICULTURE

Food Safety and Inspection Service

[Docket No. FSIS-2006-0008]

Retail and Home Food Handling and Preparation Behaviors That May Lead to Cross-Contamination by Bacterial Pathogens of Foods That Are Not Likely To Undergo Cooking or Additional Cooking

AGENCY: Food Safety and Inspection Service, USDA.

ACTION: Notice of request for information.

SUMMARY: The Food Safety and Inspection Service (FSIS) is requesting information on studies related to cross-contamination by bacterial foodborne pathogens of foods that are not likely to undergo cooking or additional cooking in food handling and preparation. Specifically, FSIS is interested in quantitative data obtained by observation of retail (commercial and institutional settings) and home food handlers. FSIS requests information on the types of food handling and preparation behaviors that could lead to the transfer of bacteria from products of animal origin to foods that are not likely to undergo cooking or additional cooking (e.g., salad components and ready-to-eat foods), as well as information on the frequency at which these behaviors occur. Information submitted in response to this Request for Information may be used in risk assessment modeling to estimate the public health impact of the presence of various bacterial foodborne pathogens in meat, poultry, and egg products.

DATES: Submissions must be received on or before September 3, 2006.

ADDRESSES: You may submit information by any of the following methods:

• Mail, including floppy disks or CD-ROM's, and hand-or courier-delivered items: Send to Neal J. Golden, U.S. Department of Agriculture, Food Safety and Inspection Service, Office of Public Health Science, Risk Assessment Division, 1400 Independence Avenue, SW., Room 374, Aerospace Center, Washington, DC 20250-3700.

• Electronic mail: neal.golden@fsis.usda.gov.

• Facsimile: Neal Golden at (202) 690-6337.

All submissions must include the Agency name and docket number FSIS-2006-0008.

FOR FURTHER INFORMATION CONTACT: Neal Golden, Office of Public Health Science, Food Safety and Inspection Service; Telephone: (202) 690-6419, Electronic mail: neal.golden@fsis.usda.gov. Please note that the telephone and facsimile numbers are not toll free numbers. Office hours are from 9 a.m. to 5 p.m., e.s.t., Monday through Friday, except Federal holidays.

SUPPLEMENTARY INFORMATION:

A. Purpose

The Risk Assessment Division of FSIS' Office of Public Health Science develops and performs risk assessments of bacterial pathogens in meat, poultry, eggs and egg products to inform the Agency's policy development activities. These risk assessments are used to evaluate intervention strategies to reduce foodborne risks and to guide, support, and enhance the Agency's overall decision-making process, risk-management policies, outreach efforts, data collection initiatives, and research priorities.

The purpose of this notice is to encourage the submission of quantitative data or information on studies of retail and home food preparation behavior that could lead to cross-contamination of foods that are not likely to undergo cooking or additional cooking after the contamination occurs. In particular, quantitative information obtained through observation of retail and home food handlers is needed.

FSIS will review the information submitted in response to this Request for Information for use in the development of risk assessment models. This Request for Information does not pertain to a particular regulatory initiative or rule-making proposal but is rather a method to identify information to inform Agency risk assessments.

B. Background

Cross-contamination of foods by bacterial foodborne pathogens occurs at retail establishments and in the home and is thought to be a significant contributing factor for foodborne illness in the U.S. Improper handling of raw products of animal origin can result in the contamination of salad components and other foods that are typically consumed without further cooking.

Data are needed to inform risk assessments to assess the consumer risk from foods that have been cross-contaminated. The exposure assessment component of a risk assessment estimates the likelihood of exposure to a microbial pathogen and the number of organisms likely to be consumed. To develop an accurate assessment of exposure, it is necessary to consider the major exposure pathways. However, there is a lack of quantitative data to evaluate the impact of cross-contamination on consumer exposure to foodborne pathogens.

To better understand the impact of retail and home cross-contamination on public health, information is needed on the following two topics: (1) Food handling behaviors and their frequency and (2) transfer rate of bacterial foodborne pathogens.

1. Food Handling Behaviors and Frequency

To incorporate cross-contamination exposure pathways into risk assessment modeling, we need to know the types of food preparation and handling behaviors used at retail and in the home. We also need to know the frequency at which these behaviors are exhibited.

Most information available on retail and home food handling is based upon self-reported surveys, obtained by the use of questionnaires, interviews, and focus groups. However, data obtained in this manner may not be a true reflection of actual practices because of reporting bias. Though this type of survey data can be useful, it is not preferable.

Direct observation of food preparation behaviors is required to understand more fully cross-contamination exposure pathways. Observational data can be obtained by different means; video taping, observation by closed circuit viewing, and direct observation (being present in the food preparation location) have been used. Observational techniques can produce quantitative data and are less biased than self-reporting. As a result, quantitative observational data are favored for risk assessment modeling purposes.

2. Transfer Rate of Bacterial Foodborne Pathogens

To understand the transfer of bacterial pathogens in kitchens, information on the likelihood of transfer to different components within this environment is needed. Researchers have investigated bacterial transfer rates; however, these studies have used a limited number of contamination sources and a limited range of bacteria. For example, studies that use raw products purchased at retail to examine the transfer of pathogens present on that product would be more representative than studies that add bacteria and then study the transfer rate. Information on the distribution of transfer rates of E. coli O157:H7, Salmonella, Campylobacter, and Listeria from meat, poultry, and egg products during food handling and preparation behaviors would be useful to model retail and domestic cross-contamination.

Additional Public Notification

Public awareness of all segments of rulemaking and policy development is important. Consequently, in an effort to ensure that the public and in particular minorities, women, and persons with disabilities, are aware of this notice, FSIS will announce it on-line through the FSIS Web page located at http://www.fsis.usda.gov/regulations_&_policies/2006_Notices_Index/index.asp.

The Regulations.gov Web site is the central online rulemaking portal of the United States government. It is being offered as a public service to increase participation in the Federal government's regulatory activities. FSIS participates in Regulations.gov and will accept comments on documents published on the site. The site allows visitors to search by keyword or Department or Agency for rulemakings that allow for public comment. Each entry provides a quick link to a comment form so that visitors can type in their comments and submit them to FSIS. The website is located at http://www.regulations.gov.

FSIS also will make copies of this Federal Register publication available through the FSIS Constituent Update, which is used to provide information regarding FSIS policies, procedures, regulations, Federal Register notices, FSIS public meetings, recalls, and other types of information that could affect or would be of interest to our constituents and stakeholders. The update is communicated via Listserv, a free e-mail subscription service consisting of industry, trade, and farm groups, consumer interest groups, allied health professionals, scientific professionals, and other individuals who have requested to be included. The update also is available on the FSIS Web page. Through Listserv and the web page, FSIS is able to provide information to a much broader, more diverse audience.

In addition, FSIS offers an e-mail subscription service which provides automatic and customized access to selected food safety news and information. This service is available at http://www.fsis.usda.gov/news_and_events/email_subscription/. Options range from recalls to export information to regulations, directives and notices. Customers can add or delete subscriptions themselves and have the option to password protect their account.

C. Disclaimer

This Request for Information should not be construed as a commitment by the Agency to enter into any agreement with any entity submitting response(s).

Done in Washington, DC, June 28, 2006.
Barbara J. Masters,
Administrator.

[FR Doc. E6-10418 Filed 7-3-06; 8:45 am]

BILLING CODE 3410-DM-P